DEPARTMENT OF ENERGY

Federal Energy Regulatory Commission

Combined Notice of Filings #1

Take notice that the Commission received the following exempt wholesale generator filings:

Docket Numbers: EG14-103-000.

Applicants: Calpine Fore River Energy Center, LLC.

Description: Notice of Self-Certification of Calpine Fore River Energy Center, LLC.

Filed Date: 9/15/14.

Accession Number: 20140915-5113.

Comments Due: 5 p.m. ET 10/6/14.

Take notice that the Commission received the following electric rate filings:

Docket Numbers: ER13-102-006.

Applicants: New York Independent System Operator, Inc.

Description: Compliance filing per 35: NYISO compliance Order 1000 regional planning to be effective 1/1/2014.

Filed Date: 9/15/14.

Accession Number: 20140915-5167.

Comments Due: 5 p.m. ET 10/6/14.

Docket Numbers: ER13-1188-021.

Applicants: Pacific Gas and Electric Company.

Description: eTariff filing per 35.19a(b): Wholesale Distribution Tariff Rate Case (WDT2) Refund Report to be effective N/A.

Filed Date: 9/15/14.

Accession Number: 20140915-5006.

Comments Due: 5 p.m. ET 10/6/14.

Docket Numbers: ER14-1993-001.

Applicants: Southwest Power Pool, Inc.

Description: Tariff Amendment per 35.17(b): Loss Compensation Clarification Amended Filing to be effective 7/19/2014.

Filed Date: 9/12/14.

Accession Number: 20140912-5202.

Comments Due: 5 p.m. ET 10/3/14.

Docket Numbers: ER14-2615-001.

Applicants: Midcontinent Independent System Operator, Inc.

Description: Tariff Amendment per 35.17(b): 2014-09-15_SA 6503 Gaylord SSR Termination Amendment to be effective 10/1/2014.

Filed Date: 9/15/14.

Accession Number: 20140915-5071.

Comments Due: 5 p.m. ET 10/6/14.

Docket Numbers: ER14-2617-001.

Applicants: Midcontinent Independent System Operator, Inc.

Description: Tariff Amendment per 35.17(b): 2014-09-15_SA 6504 Straits SSR Termination Amendment to be effective 10/1/2014.

Filed Date: 9/15/14.

Accession Number: 20140915-5086.

Comments Due: 5 p.m. ET 10/6/14.

Docket Numbers: ER14-2666-001.

Applicants: Avalon Solar Partners, LLC.

Description: Tariff Amendment per 35.17(b): Amendment to Market Based Rate Filing to be effective 10/15/2014.

Filed Date: 9/15/14.

Accession Number: 20140915-5000.

Comments Due: 5 p.m. ET 10/6/14.

Docket Numbers: ER14-2739-000.

Applicants: Southwest Power Pool, Inc.

Description: Report Filing: 2899 Pawnee Wind Farm, LLC GIA Supplemental Submission to be effective N/A.

Filed Date: 9/12/14.

Accession Number: 20140912-5187.

Comments Due: 5 p.m. ET 10/3/14.

Docket Numbers: ER14-2770-000.

Applicants: Southwest Power Pool, Inc.

Description: Report Filing: Substitute Original 2893 Steele Flats Wind Project GIA Supplemental Submission to be effective N/A.

Filed Date: 9/12/14.

Accession Number: 20140912-5200.

Comments Due: 5 p.m. ET 10/3/14.

Docket Numbers: ER14-2869-000.

Applicants: Black Hills Power, Inc.

Description: Compliance filing per 35: Compliance Filing Revising Attachment H Formula Rate Protocols to be effective 1/1/2015.

Filed Date: 9/12/14.

Accession Number: 20140912-5183.

Comments Due: 5 p.m. ET 10/3/14.

Docket Numbers: ER14-2870-000.

Applicants: Southwest Power Pool, Inc.

Description: § 205(d) rate filing per 35.13(a)(2)(iii): 2014 Southwestern Power Administration Amendatory Agreement Exhibit 1 to be effective3/1/2014.

Filed Date: 9/12/14.

Accession Number: 20140912-5201.

Comments Due: 5 p.m. ET 10/3/14.

Docket Numbers: ER14-2871-000.

Applicants: Cameron Ridge, LLC.

Description: Initial rate filing per 35.12 MBR Tariff to be effective11/11/2014.

Filed Date: 9/12/14.

Accession Number: 20140912-5203.

Comments Due: 5 p.m. ET 10/3/14.

Docket Numbers: ER14-2872-000.

Applicants: Southern California Edison Company.

Description: § 205(d) rate filing per 35.13(a)(2)(iii): Service Agreement for Wholesale Distribution Service with City of Industry to be effective 9/16/2014.

Filed Date: 9/15/14.

Accession Number: 20140915-5002.

Comments Due: 5 p.m. ET 10/6/14.

Docket Numbers: ER14-2873-000.

Applicants: Duke Energy Florida, Inc., Duke Energy Carolinas, LLC.

Description: § 205(d) rate filing per 35.13(a)(2)(iii): OATT Formula Transmission Rates DEF Schedule 10-A (First filing) to be effective 1/1/2013.

Filed Date: 9/15/14.

Accession Number: 20140915-5108.

Comments Due: 5 p.m. ET 10/6/14.

Docket Numbers: ER14-2874-000.

Applicants: Arizona Public Service Company.

Description: Compliance filing per 35: OATT Update to Conform with Order No. 789 Adoption of Reliability to be effective 10/1/2014.

Filed Date: 9/15/14.

Accession Number: 20140915-5148.

Comments Due: 5 p.m. ET 10/6/14.

Docket Numbers: ER14-2875-000.

Applicants: UNS Electric, Inc.

Description: Compliance filing per 35: Formula Rate Protocols Compliance Filing to be effective 11/14/2014.

Filed Date: 9/15/14.

Accession Number: 20140915-5155.

Comments Due: 5 p.m. ET 10/6/14.

Docket Numbers: ER14-2876-000.

Applicants: PJM Interconnection, L.L.C.

Description: Compliance filing per 35: Notice of Cancellation of Service Agreement No. 2533; Queue No. V4-075 to be effective N/A.

Filed Date: 9/15/14.

Accession Number: 20140915-5158.

Comments Due: 5 p.m. ET 10/6/14.

Docket Numbers: ER14-2877-000.

Applicants: Duke Energy Florida, Inc., Duke Energy Carolinas, LLC.

Description: § 205(d) rate filing per 35.13(a)(2)(iii): OATT Formula Transmission Rates DEF Schedule 10-A (second filing) to be effective 5/15/2013.

Filed Date: 9/15/14.

Accession Number: 20140915-5159.

Comments Due: 5 p.m. ET 10/6/14.

Docket Numbers: ER14-2878-000.

Applicants: Duke Energy Florida, Inc., Duke Energy Carolinas, LLC.

Description: § 205(d) rate filing per 35.13(a)(2)(iii): OATT Formula Transmission Rates DEF Schedule 10-A (third filing) to be effective 11/29/2013.

Filed Date: 9/15/14.

Accession Number: 20140915-5168.

Comments Due: 5 p.m. ET 10/6/14.

Docket Numbers: ER14-2879-000.

Applicants: Deseret Generation & Transmission Co-operative, Inc.

Description: Tariff Withdrawal per 35.15: Wells Dairy Incentive Agmt Cancellation to be effective 11/14/2014.

Filed Date: 9/15/14.

Accession Number: 20140915-5169.

Comments Due: 5 p.m. ET 10/6/14.

Docket Numbers: ER14-2880-000.

Applicants: Duke Energy Florida, Inc., Duke Energy Carolinas, LLC.

Description: § 205(d) rate filing per 35.13(a)(2)(iii): OATT Formula Transmission Rate DEF Schedule 10-A (fourth filing) to be effective 2/3/2014.

Filed Date: 9/15/14.

Accession Number: 20140915-5172.

Comments Due: 5 p.m. ET 10/6/14.

Docket Numbers: ER14-2881-000.

Applicants: Duke Energy Florida, Inc.

Description: § 205(d) rate filing per 35.13(a)(2)(iii): City of Mount Dora RS 219 to be effective 11/14/2014.

Filed Date: 9/15/14.

Accession Number: 20140915-5173.

Comments Due: 5 p.m. ET 10/6/14.

Take notice that the Commission received the following qualifying facility filings:

Docket Numbers: QF14-743-000.

Applicants: Cedar Creek Waste Water Treatment Facility.

Description: Form 556 of Cedar Creek Waste Water Treatment Facility.

Filed Date: 8/28/14.

Accession Number: 20140828-5259.

Comments Due: None Applicable.

Docket Numbers: QF14-744-000.

Applicants: Crescent Duck Farms.

Description: Form 556 of Crescent Duck Farms.

Filed Date: 8/28/14.

Accession Number: 20140828-5258.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 15, 2014.
Nathaniel J. Davis, Sr.,
Deputy Secretary.

[FR Doc. 2014-22483 Filed 9-19-14; 8:45 am]

BILLING CODE 6717-01-P